DEPARTMENT OF ENERGY

10 CFR Part 431

[EERE-2013-BT-STD-0030]

RIN 1904-AB86

Energy Conservation Program: Energy Conservation Standards for Commercial Packaged Boilers

AGENCY: Office of Energy Efficiency and Renewable Energy, Department of Energy.

ACTION: Final rule; technical amendment.

SUMMARY: The Department of Energy (DOE) is amending its standards for commercial packaged boilers (CPB) in compliance with a United States Court of Appeals for the District Court of Columbia Circuit court decision vacating the January 10, 2020 rule that amended standards for CPB.

DATES: This action is effective on September 19, 2023. However, the opinion had legal effect on August 28, 2023.

FOR FURTHER INFORMATION CONTACT:

Ms. Julia Hegarty, U.S. Department of Energy, Office of Energy Efficiency and Renewable Energy, Building Technologies Program, EE-5B, 1000 Independence Avenue SW, Washington, DC 20585-0121. Telephone: (240) 597-6737. Email: Julia Hegarty@ee.doe.gov.

Ms. Amelia Whiting, U.S. Department of Energy, Office of the General Counsel, GC-33, 1000 Independence Avenue SW, Washington, DC 20585-0121. Telephone: (202) 586-2588. Email: Amelia.Whiting@hq.doe.gov.

SUPPLEMENTARY INFORMATION: The Energy Policy and Conservation Act of 1975 (EPCA), as amended, requires DOE to, among other things, periodically consider whether amended energy conservation standards for commercial packaged boilers are warranted. On January 10, 2020, DOE published a final rule, 85 FR 1592 (January 10, 2020; “January 2020 Final Rule”), amending energy conservation standards for commercial packaged boilers (“CPB”). A commercial packaged boiler is a packaged boiler that meets all of the following requirements: (1) has rated input of 300,000 Btu/h or greater; (2) is to any significant extent, distributed in commerce for space conditioning and/or service water heating in buildings but does not meet the definition of “hot water supply boiler”; (3) does not meet the definition of “field-constructed”; and (4) is designed to operate a steam pressure at or below 15 psig; operate at or below a water pressure of 160 psig and water temperature of 250 °F, or operate at a steam pressure at or below 15 psig and at or below a water pressure of 160 psig and water temperature of 250 °F. 10 CFR 431.82.

The American Public Gas Association (“APGA”), Air-Conditioning, Heating and Refrigeration Institute (“AHRI”), and Spire Inc. filed petitions for review of DOE's January 2020 Final Rule in the United States Courts of Appeals for the D.C. Circuit, Fourth Circuit, and Eight Circuit, respectively. American Public Gas Association v. DOE, 22 F.4th 1018 (D.C. Cir. 2022). The Petition was consolidated in the D.C. Circuit. In a January 18, 2022, opinion, the D.C. Circuit determined that DOE failed to provide meaningful responses to comments with respect to three distinct issues related to modeling used during the rulemaking proceeding: (1) the random assignment of boiler efficiencies to buildings; (2) forecasted fuel prices; and (3) estimated burner operating hours. As such, the court concluded DOE failed to adequately explain why the January 2020 Final Rule satisfies the applicable clear and convincing evidence standard and remanded, but did not vacate, the January 2020 Final Rule to DOE to cure the failures to explain.

On remand, DOE published a supplemental response to comments providing additional explanation regarding these three issues. 87 FR 23421 (April 20, 2022). APGA, AHRI, and Spire Inc. filed separate petitions for review of the supplemental response to comments, which were consolidated in the D.C. Circuit. The D.C. Circuit issued an opinion on July 7, 2023, granting the petition for review and vacating the energy conservation standards for CPBs established in the January 2020 Final Rule, and remanding the proceedings to DOE. (See 10 CFR 431.87)

This final rule is not subject to the requirement to provide prior notice and an opportunity for public comment pursuant to 5 U.S.C. 553(b)(B). DOE finds good cause to waive the requirement to provide prior notice and an opportunity for public comment as such procedure is unnecessary. DOE must comply with the order of a Federal court, and has no discretion to do otherwise. In implementation of that order, DOE is vacating the current energy conservation standards for commercial packaged boilers. Comments suggesting any other course would serve no useful purpose.

Approval of the Office of the Secretary

The Secretary of Energy has approved publication of this final rule; technical amendment.

Signing Authority

This document of the Department of Energy was signed on September 8, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 11, 2023.
Treena V. Garrett,
Federal Register Liaison Officer, U.S. Department of Energy.

For the reasons stated in the preamble, DOE amends part 431 of chapter II, subchapter D, of title 10 of the Code of Federal Regulations, as set forth below:

PART 431—ENERGY EFFICIENCY PROGRAM FOR CERTAIN COMMERCIAL AND INDUSTRIAL EQUIPMENT

1. The authority citation for part 431 continues to read as follows:

Authority: 42 U.S.C. 6291-6317; 28 U.S.C. 2461 note.

2. Revise § 431.87 to read as follows:

§ 431.87 Energy conservation standards and their effective dates.

(a) Each commercial packaged boiler listed in table 1 of this paragraph (a) and manufactured on or after the effective date listed must meet the indicated energy conservation standard.

Table 1 to Paragraph (a)—Commercial Packaged Boiler Energy Conservation Standards
Equipment category | Subcategory | Certified rated input | Efficiency level—effective date: March 2, 2012 *
Hot Water Commercial Packaged Boilers | Gas-fired | ≥300,000 Btu/h and ≤2,500,000 Btu/h | 80.0% ET.
Hot Water Commercial Packaged Boilers | Gas-fired | >2,500,000 Btu/h | 82.0% EC.
Hot Water Commercial Packaged Boilers | Oil-fired | ≥300,000 Btu/h and ≤2,500,000 Btu/h | 82.0% ET.
Hot Water Commercial Packaged Boilers | Oil-fired | >2,500,000 Btu/h | 84.0% EC.
Steam Commercial Packaged Boilers | Gas-fired, all, except natural draft | ≥300,000 Btu/h and ≤2,500,000 Btu/h | 79.0% ET.
Steam Commercial Packaged Boilers | Gas-fired, all, except natural draft | >2,500,000 Btu/h | 79.0% ET.
Steam Commercial Packaged Boilers | Gas-fired—natural draft | ≥300,000 Btu/h and ≤2,500,000 Btu/h | 77.0% ET.
Steam Commercial Packaged Boilers | Gas-fired—natural draft | >2,500,000 Btu/h | 77.0% ET.
Steam Commercial Packaged Boilers | Oil-fired | ≥300,000 Btu/h and ≤2,500,000 Btu/h | 81.0% ET.
Steam Commercial Packaged Boilers | Oil-fired | >2,500,000 Btu/h | 81.0% ET.
* Where EC is combustion efficiency and ET is thermal efficiency.

(b) Each commercial packaged boiler listed in table 2 of this paragraph (b) and manufactured on or after the effective date listed in Table 2 must meet the indicated energy conservation standard.

Table 2 to Paragraph (b)—Commercial Packaged Boiler Energy Conservation Standards
Equipment category | Subcategory | Certified rated input | Efficiency level—effective date: March 2, 2022 *
Steam Commercial Packaged Boilers | Gas-fired—natural draft | ≥300,000 Btu/h and ≤2,500,000 Btu/h | 79.0% ET.
Steam Commercial Packaged Boilers | Gas-fired—natural draft | >2,500,000 Btu/h | 79.0% ET.
* Where ET is thermal efficiency.

[FR Doc. 2023-19908 Filed 9-18-23; 8:45 am]

BILLING CODE 6450-01-P